DEPARTMENT OF DEFENSE

Office of the Secretary

32 CFR Part 323

[Docket ID: DoD-2009-OS-0008]

Privacy Act; Implementation

AGENCY: Defense Logistics Agency, DoD.

ACTION: Final rule with request for comments; withdrawal.

SUMMARY: The Department of Defense is withdrawing the final rule published on October 29, 2009 (74 FR 55782-55783), which claimed existing exemptions for the Defense Logistics Agency Freedom of Information Act/Privacy Act Requests and Administrative Appeal Records when an exemption had been previously claimed for the records in another Privacy Act system of records.

DATES: The final rule amending 32 CFR part 323 published on October 29, 2009 (74 FR 55782-55783) is withdrawn as of December 1, 2009.

FOR FURTHER INFORMATION CONTACT: Patricia Toppings, 703-696-5284.

Dated: November 23, 2009.
Patricia L. Toppings,
OSD Federal Register Liaison Officer, Department of Defense.

[FR Doc. E9-28528 Filed 11-30-09; 8:45 am]

BILLING CODE 5001-06-P